DEPARTMENT OF LABOR

Employment and Training Administration

[TA-W-58,302]

Lenox China, Oxford, NC; Notice of Termination of Investigation

Pursuant to section 221 of the Trade Act of 1974, as amended, an investigation was initiated on November 9, 2005, in response to a petition filed on behalf of workers of Lenox China, Oxford, North Carolina.

The petitioning group of workers is covered by a current certification (TA-W-55,767) issued on January 18, 2005. Consequently, further investigation in this case would serve no purpose, and the investigation has been terminated.

Signed at Washington, DC, this 14th day of November, 2005.
Linda G. Poole,
Certifying Officer, Division of Trade Adjustment Assistance.

[FR Doc. E5-6879 Filed 12-5-05; 8:45 am]

BILLING CODE 4510-30-P